DEPARTMENT OF STATE

Bureau of European Affairs

22 CFR Part 139

[Public Notice 3258]

Miscellaneous: Irish Peace Process Cultural and Training Program

AGENCY: Bureau of European Affairs, Department of State.

ACTION: Interim rule with request for comments.

SUMMARY: This rule establishes a training and employment program in the United States for certain residents of Northern Ireland and designated counties of the Republic of Ireland. This new program is mandated by legislation enacted in 1998. Under the program, in each of three program years beginning in FY 2000, up to 4000 persons, inclusive of their spouses and children, who are physically resident in Northern Ireland or the designated counties in the Republic of Ireland, will be eligible to enter the United States for a maximum of three years in order to develop job skills and conflict resolution abilities in support of the Irish peace process.

DATES: This interim rule is effective March 17, 2000. The Department invites written comments which must be received no later than May 16, 2000.

ADDRESSES: Submit written comments, in duplicate, to the Director, Office for United Kingdom, Benelux and Ireland Affairs, Bureau of European Affairs, Room 4513, Department of State, Washington, D.C. 20520.

FOR FURTHER INFORMATION CONTACT: Patricia Nelson, Officer for Ireland and Northern Ireland Affairs, Bureau of European Affairs, Room 4513, Department of State, Washington, D.C. 20520, Tel. (202) 647-6585.

SUPPLEMENTARY INFORMATION:

What Does This Rule Do?

This interim rule amends Subchapter N, Title 22 of the Code of Federal Regulations relating to miscellaneous matters within the purview of the Department of State by adding a new Part 139 that describes the Irish Peace Process Cultural and Training Program.

Why Is It Necessary To Establish This Program?

In the “Irish Peace Process Cultural and Training Program Act of 1998” (hereinafter “IPPCTPA”), Public Law 105-319, Congress mandated that the Secretary of State and the Attorney General establish a program to allow young people from disadvantaged areas of Northern Ireland and designated counties of the Republic of Ireland suffering from sectarian violence and high structural unemployment to enter the United States for the purpose of developing job skills and conflict resolution abilities in a diverse, cooperative, peaceful, and prosperous environment. Those young people would return to their homes better able to contribute toward economic regeneration and the Irish peace process. Congress required that the program promote cross-community and cross-border initiatives to build grassroots support for long-term peaceful coexistence.

What Requirements Did Congress Establish for the Program?

The “IPPCTPA” provides that in each of three consecutive program years beginning in FY 2000, up to 4000 residents of Northern Ireland or of six counties designated within the Republic of Ireland, inclusive of their spouses and children, may be provided nonimmigrant visas for the purpose of entering the United States temporarily (i.e., for up to thirty-six months) to develop job skills and conflict resolution abilities. Each person admitted to the program must have a residence abroad that he or she has no intention of abandoning and must otherwise be qualified to receive a United States nonimmigrant visa. The principal alien also must be under 36 years of age. The six designated counties of the Republic of Ireland are Louth, Monaghan, Cavan, Leitrim, Sligo, and Donegal. The Immigration and Naturalization Service (“INS”) is required to maintain records of the nonimmigrant status and place of residence in the United States of all persons admitted under the program and report to Congress on all those who overstay their nonimmigrant visas.

What Are the Respective Responsibilities of the Departments of State and Justice in Establishing and Running the Program?

Responsibility in the Department of State for establishing the program structure and maintaining its operation has been delegated to the Bureau of European Affairs (unless otherwise specifically stated herein, further references to the Department or to the Department of State will refer to this bureau). The INS will be the responsible agency representing the Attorney General. After extensive consultations between the Department and INS it was agreed that the Department would be responsible for: (1) The design of the program mandated by IPPCTPA; (2) the formulation of policies and procedures concerning the Irish Peace Process Cultural and Training Program (IPPCTP); (3) the selection and oversight of the Program Administrator (see discussion below); (4) coordination with other U.S. Government agencies and representatives of the governments of the Republic of Ireland and of Northern Ireland; and (5) establishment of the requirements for and approval of United States employers who will participate in the program. The INS is responsible for authorizing employment under this program. INS is also responsible for: (1) Monitoring the nonimmigrant status and residence of all participants in the United States; and (2) reporting to Congress on program participants who overstay their nonimmigrant visas, at the end of the three program years and during the three subsequent years. (See the separate rule regarding visa issuance to program participants published concurrently with this rule by the Bureau of Consular Affairs of the Department of State in Part 41 of this title and the corresponding rule of the INS published concurrently in Title 8).

How Will the Program Be Administered?

The Department and INS have agreed that the most efficient manner in which to administer the Irish Peace Process Cultural and Training Program is to select a “Program Administrator” from the private sector experienced in managing projects of similar scope and complexity. The Program Administrator will be responsible for the day-to-day management of the program. Consequently, this rule provides for the selection of such a Program Administrator and for the delegation of responsibilities to that Program Administrator. Logicon, Inc. has been chosen as the Program Administrator. Logicon may be reached by phone at (877) 925-7484, via the Internet at www.WalshVisa.net, via e-mail at logicon@walshvisa.net, or by mail at: Walsh Visa Program, Logicon, Inc., 1831 Wiehle Avenue, Suite 100, Reston, VA 20190-5241.

What Are the Principal Functions of the Program Administrator?

The principal functions of the Program Administrator are:

(a) Identifying job/training opportunities in designated economic sectors, and recommending to the Department employers in the United States who meet the criteria of section 139.7 and who wish to participate in the IPPCTP. Job/training opportunities will be located in a number of geographic areas across the United States, depending on the availability of jobs, relative cost of living, support infrastructure, and other relevant factors.

(b) Making available, through electronic or other means, information about job/training openings to potential program participants and assisting them in securing job placements in the United States.

(c) Certifying in writing to a United States consular officer in the United States Embassy in Dublin or the United States Consulate General in Belfast, or to an officer of the INS, that a principal alien has been selected to participate in the IPPCTP. This certification will be used only to assist in: (1) nonimmigrant visa issuance to and adjudication of an application for admission made by the principal alien and accompanying family members, or (2) adjudicating a request made by the principal alien to change employers under the IPPCTP while in the United States.

(d) Providing pre-departure and pre-employment orientation seminars to program participants, as appropriate, and otherwise assisting participants in a smooth transition to life in the United States.

(e) Monitoring participants' compliance with Program requirements while in the United States, and verifying that participants are receiving the agreed training and skills.

(f) Cooperating with the Training and Employment Authority of the Republic of Ireland (“FAS”) and the Training and Employment Agency of Northern Ireland (“T&EA”) in all aspects of the program, including assisting participants in finding jobs in their home countries upon completion of their U.S. training.

(g) Reporting to the Department and INS on various aspects of the program and on program participants as directed. And

(h) Developing and maintaining a computerized database and website to underpin all of the above functions.

What Are the Specific Criteria for the Initial Selection of the Participants?

This rule establishes the following basic criteria for program participants. All applicants must be between 18 and 35 years of age and be physically resident in Northern Ireland or one of the border counties for at least three months prior to applying to the Program. The minimum age of 18 was selected to prevent any conflict with the employment laws of any state in the United States. The upper age limit was established by statute.

All applicants deemed eligible must also meet United States immigration/visa requirements, including being in receipt of a job offer certified by the Program Administrator, and demonstrating satisfactorily to a Consular Officer that they have a residence abroad that they have no intention of abandoning.

In addition, candidates must fall within one of the following two categories of persons.

(a) The first category consists of unemployed applicants: (1) who have been unemployed for at least 3 months, or (2) who have completed or are currently participating in a program of T&EA or of FAS, or of another publicly funded training and employment program. Persons who have recently been made redundant in their employment (i.e., lost their jobs) or received a notice of redundancy (termination of employment) may apply to the program immediately without having to wait 3 months after becoming unemployed.

(b) The second category consists of persons: (1) who are currently employed and (2) whose current employer has nominated them to participate in the program for additional training and/or job experience that will benefit both the employee and the employer upon returning to their same employment.

How Were These Criteria Developed?

The Department, in consultation with INS, FAS, and T&EA, developed the criteria. The Department believes that for the program to contribute to peace and economic regeneration, local authorities and employers ought to determine which individuals would most benefit from the training offered and, in turn, whose receipt of training would most contribute to the regenerative and peaceful goals of the IPPCTP. This rule establishes the role of the training and employment agencies in the program participant selection process.

What Types of Training Will Be Offered to the Participants?

The Department, in consultation with INS and the training and employment agencies, determined that, to be of maximum benefit to the economies of Northern Ireland and the six border counties, the program must provide a wide range of job/training opportunities in those sectors experiencing personnel or skills shortages, or in which the governments expect rapid future growth and/or new inward investment. All parties agreed the program would begin with the following sectors: hospitality and tourism; customer service; information and communications technology; pharmaceuticals; engineering; sales, marketing and promotion; agriculture/horticulture diversification; food processing; and furniture. This rule names the sectors initially identified and agreed upon and permits the selection of additional sectors or the deletion of already identified sectors upon agreement of the Department, INS, and both training and employment agencies, or of one of the agencies with respect to participants from that agency's country.

How Will Employers Be Selected for Participation in the Program?

Employers will be selected for participation in the program according to the criteria established by this rule. The criteria have been adopted to ensure that employers will offer employment and training commensurate with the goals of the program. To participate in the Irish Peace Process Cultural and Training Program, U.S. employers must:

• Provide job/training opportunities that:

(1) Correspond to one of the occupational areas identified by the governments of Northern Ireland and the Republic of Ireland, and that

(2) Include a career path comprising (1) work assignment rotations, and/or (2) training opportunities, which offer promotion potential if job performance is satisfactory.

• Offer health insurance, which, at a minimum, provides:

(1) Medical benefits of at least $50,000 per accident or illness (major medical); and

(2) A deductible not to exceed $500 per accident or illness.

• Pay participants at least the minimum wage and at the same rate as American workers doing the same or similar work.

• Agree not to petition for a change of immigration status or non-immigrant status for any participant.

• Grant permission to the Program Administrator to conduct on-site visits and take other measures necessary to verify that each employer's job/training contract is being followed.

• Notify the Program Administrator in the event of the termination of a participant from employment, or departure of the participant from the Program. And,

• Prepare a written record describing the work experience gained, and make it available to each participant.

How Is the Department of State Amending Its Regulations?

The Department is adding Part 139A in order to establish a regulation for the purpose of implementing the requirements of the Irish Peace Process Cultural and Training Program Act of 1998 (“IPPCTPA”). The new regulation, at § 139.1, et seq., sets forth the structure of a new training program, relevant definitions for the program, rules for participation in the program and responsibilities of various entities involved in the administration of the program. This regulation is being promulgated in conjunction with regulations by the INS and the Bureau of Consular Affairs of the Department of State regarding this program.

Section 139.1 explains the origin and purpose of the Irish Peace Process Cultural and Training Program (“IPPCTP”) and the general responsibility within the Department of State for establishing it.

Section 139.2 provides definitions of frequently used terms associated with the IPPCTP.

Section 139.3 establishes the specific responsibilities of the Bureau of European Affairs for formulating general policies and procedures for the IPPCTP, including the selection of a private sector Program Administrator to be responsible for the day-to-day operation of the IPPTCP.

Section 139.4 establishes the specific responsibilities of the Program Administrator.

Section 139.5 establishes participant trainee selection criteria.

Section 139.6 establishes the method by which program candidates may request acceptance into the IPPCTP.

Section 139.7 establishes criteria for the selection of United States employers wishing to participate in the IPPCTP.

Section 139.8 identifies the economic sectors in which training and employment under the IPPTCP will initially focus. This section also provides for the deletion or addition of economic sectors from or to the list.

Administrative Procedure Act

The Department is implementing this regulation as an interim rule, with a 60-day provision for post-promulgation public comments. Publication as an interim rule is based upon the “good cause” exceptions set forth at 5 U.S.C. sections 553(b)(3)(B) and (d)(3). The Department determined that there was not enough time to issue a proposed rule with request for comments as the Irish Peace Process Cultural and Training Program is scheduled under the relevant statutory provision to begin in FY 2000 (October 1, 1999 through September 30, 2000). Publication of this regulation as an interim rule will expedite implementation of Public Law 105-319 and allow eligible aliens to apply for and participate in this program as soon as possible in light of the statutory expiration of the program on October 1, 2005.

Regulatory Flexibility Act

In accordance with the Regulatory Flexibility Act (5 U.S.C. section 605(b)), the Department of State has reviewed this regulation and certifies that it will not have a significant economic impact on a substantial number of small entities. Participation in the Irish Peace Process Cultural and Training Program is limited to 4,000 individuals annually for three consecutive years. The activities of the participants in the United States will take place in multiple locations and economic sectors so that no significant economic impact should occur.

Unfunded Mandates Reform Act of 1995

This rule will not include any Federal mandate that may result in the expenditure by State, local and tribal governments, in the aggregate, of $100 million or more, or increased expenditures by the private sector of $100 million or more. Therefore, the requirements of the Unfunded Mandates Reform Act of 1995 do not apply here.

Small Business Regulatory Enforcement Fairness Act of 1996

This rule is not a major rule as defined by section 804 of the Small Business Regulatory Enforcement Act of 1996.

Executive Order 12866

Although exempted from Executive Order 12866, this rule has been reviewed to ensure consistency with its principles. This rule is not a “significant regulatory action” under the Executive Order.

Executive Orders 13132

This regulation does not contain policies with federalism implications sufficient to warrant preparation of a federalism assessment under Executive Order 13132.

Paperwork Reduction Act

This rule involves collections of information subject to the Paperwork Reduction Act of 1995. These collections are in the process of being approved by the Office of Management and Budget.

List of Subjects in 22 CFR Part 139

Aliens, Passports and visas.

Accordingly, add 22 CFR part 139 to read as follows:

PART 139—IRISH PEACE PROCESS CULTURAL AND TRAINING PROGRAM

Sec.
139.1 Purpose.
139.2 Definitions.
139.3 Responsibilities of the Department.
139.4 Responsibilities of the Program Administrator.
139.5 Qualifications required for selection as a trainee.
139.6 Requesting participation in the IPPCTP.
139.7 Qualifications for participation as an employer in the United States.
139.8 Target economic sectors.

Authority: Pub. L. 105-319, 112 Stat. 3013.

§ 139.1 Purpose.

(a) The regulations set forth in this Part implement, in part, the “Irish Peace Process Cultural and Training Program Act of 1998 (the “IPPCTPA”), Public Law 105-319, 112 Stat. 3013. The purpose of the IPPCTPA is to establish a program to “allow young people from disadvantaged areas of designated counties suffering from sectarian violence and high structural unemployment to enter the United States for the purpose of developing job skills and conflict resolution abilities in a diverse, cooperative, peaceful, and prosperous environment, so that those young people can return to their homes better able to contribute toward economic regeneration and the Irish peace process.” This part describes the Irish Peace Process Cultural and Training Program (the “IPPCTP”) hereby established by the Department, the procedures for its operation and the requirements for participation.

(b) The Department, in consultation with the Immigration and Naturalization Service (“INS”), will implement the program specified in the IPPCTPA by working with the relevant governmental authorities in the Republic of Ireland and in Northern Ireland to further the goals of the IPPCTPA, by selecting a Program Administrator to carry out the day-to-day operation of the IPPCTP, by approving, upon the recommendation of the Program Administrator, employers in the United States to carry out the training and employment elements of the IPPTCP and by providing general oversight of the IPPCTP.

§ 139.2 Definitions.

The following definitions apply to this part:

Accompanying family members means the spouse and minor children of the principal alien.

Applicant sponsor means FAS, T&EA, or an employer in the border counties or in Northern Ireland who has nominated an employee to participate in the IPPCTP.

Border counties means the counties of Louth, Monaghan, Cavan, Leitrim, Sligo and Donegal in the Republic of Ireland.

FAS means the Training and Employment Authority of the Republic of Ireland.

IPPCTP means the Irish Peace Process Cultural and Training Program.

Program Administrator means the organization selected by the Department to carry out the Department's responsibilities for the day-to-day management of the IPPCTP.

Program Participant means an individual selected to participate in the IPPCTP.

T&EA means the Training and Employment Agency of Northern Ireland.

United States employer means an employer with operations in the United States that has been recommended by the Program Administrator and approved by the Department of State for participation in the IPPCTP.

§ 139.3 Responsibilities of the Department.

The Department of State retains overall authority for all IPPCTP activities, including, but not limited to:

(a) The design of the program mandated by IPPCTPA;

(b) The formulation of policies and procedures concerning the IPPCTP;

(c) The selection and oversight of the Program Administrator;

(d) Coordination with other U.S. Government agencies and representatives of the governments of the Republic of Ireland and Northern Ireland; and

(e) Establishment of the requirements for and approval of the United States employers who will participate in the program.

§ 139.4 Responsibilities of the Program Administrator.

The Program Administrator will be responsible for the following:

(a) Identifying job/training opportunities in designated economic sectors, and recommending to the Department employers in the United States who meet the criteria of § 139.7 and who wish to participate in the IPPCTP. Job/training opportunities will be located in a number of geographic areas across the United States, depending on the availability of jobs, relative cost of living, support infrastructure, and other relevant factors.

(b) Making available, through electronic or other means, information about job/training openings to potential program participants and assisting them in securing job placements in the United States.

(c) Certifying in writing to a United States consular officer in the United States Embassy in Dublin or the United States Consulate General in Belfast, or to an officer of the INS, that a principal alien has been selected to participate in the IPPCTP. This certification will be used only to assist in:

(1) Nonimmigrant visa issuance to and adjudication of an application for admission made by the principal alien and accompanying family members; or

(2) Adjudicating a request made by the principal alien to change employers under the IPPCTP while in the United States.

(d) Providing pre-departure and pre-employment orientation seminars to program participants, as appropriate, and otherwise assisting participants in a smooth transition to life in the United States.

(e) Monitoring participants' compliance with Program requirements while in the United States, and verifying that participants are receiving the agreed training and skills.

(f) Cooperating with FAS and T&EA in all aspects of the program, including assisting participants in finding jobs in their home countries upon completion of their U.S. training.

(g) Reporting to the Department and INS on various aspects of the program and on program participants as directed.

(h) Developing and maintaining a computerized database and website to underpin all of the functions in paragraphs (a) through (g) of this section.

§ 139.5 Qualifications required for selection as a trainee.

To be selected as a program participant in the IPPCTP, a person must:

(a) Be between 18 and 35 years of age; and

(b) Have been physically resident in Northern Ireland or one of the border counties for at least three months prior to applying to the Program; and

(c) Meet United States immigration/visa requirements, including being in receipt of a job offer certified by the Program Administrator, and able to demonstrate satisfactorily to a Consular Officer that he/she has a residence abroad that he/she has no intention of abandoning; and

(d)(1) Be unemployed for at least 3 months, or have completed or currently be enrolled in a training/program sponsored by T&EA or FAS, or by other such publicly funded programs, or have been made redundant in their employment (i.e., lost his/her job) or have received a notice of redundancy (termination of employment); or

(2) Be a currently employed person whose employer has nominated him/her to participate in this program for additional training or job experience that will benefit both the employee and his/her employer upon returning to the same employment.

§ 139.6 Requesting participation in the IPPCTP.

Requests for participation as a trainee in the IPPCTP must be made to FAS or T&EA in the case of § 139.5(d)(1); or, in the case of § 139.5(d)(2), directly to the Program Administrator by the prospective participant's employer.

§ 139.7 Qualifications for participation as an employer in the United States.

To participate in the Irish Peace Process Cultural and Training Program, U.S. employers must:

(a) Provide job/training opportunities that:

(1) Correspond to one of the occupational areas identified by the governments of Northern Ireland and the Republic of Ireland; and

(2) Include a career path comprising work assignment rotations, and/or training opportunities, which offer promotion potential if job performance is satisfactory.

(b) Offer health insurance, which, at a minimum, provides:

(1) Medical benefits of at least $50,000 per accident or illness (major medical); and

(2) A deductible not to exceed $500 per accident or illness.

(c) Pay participants at least the minimum wage and at the same rate as American workers doing the same or similar work.

(d) Agree not to petition for a change of immigration status or non-immigrant status for any participant.

(e) Grant permission to the Program Administrator to conduct on-site visits and take other measures necessary to verify that each employer's job/training contract is being followed.

(f) Notify the Program Administrator in the event of the termination of a participant from employment, or departure of the participant from the Program.

(g) Prepare a written record describing the work experience gained, and make it available to each participant.

§ 139.8 Target economic sectors.

(a) Job/Training under the IPPCTP will focus initially on the following economic sectors:

(1) Hospitality and tourism;

(2) Customer service;

(3) Information and communications technology;

(4) Pharmaceuticals;

(5) Engineering;

(6) Sales, marketing and promotion;

(7) Agriculture/horticulture diversification;

(8) Food processing;

(9) Furniture.

(b) Additional sectors may be added to or deleted from the list in paragraph (a) of this section upon the agreement of the Department and FAS and/or T&EA.

Dated: March 1, 2000.
Marc Grossman,
Assistant Secretary for European Affairs, Department of State.

[FR Doc. 00-6832 Filed 3-16-00; 8:45 am]

BILLING CODE 4710-23-P